DEPARTMENT OF HEALTH AND HUMAN SERVICES

Centers for Disease Control and Prevention

Advisory Board on Radiation and Worker Health (ABRWH or Advisory Board), National Institute for Occupational Safety and Health (NIOSH)

Correction: This notice was published in the Federal Register on June 30, 2015, Volume 80, Number 125, Pages 37263-37264. The time and date should read as follows:

Time and Date: 8:15 a.m.-5:30 p.m., Mountain Time, July 23, 2015.

Public Comment Time and Date: 5:30 p.m.-6:30 p.m., Mountain Time, July 23, 2015.

Contact Person for More Information: Theodore Katz, Designated Federal Officer, NIOSH, CDC, 1600 Clifton Road NE., MS E-20, Atlanta, Georgia 30333, telephone: (513) 533-6800, toll free: 1-800-CDC-INFO, email: dcas@cdc.gov.

The Director, Management Analysis and Services Office, has been delegated the authority to sign Federal Register notices pertaining to announcements of meetings and other committee management activities for both the Centers for Disease Control and Prevention and the Agency for Toxic Substances and Disease Registry.

Elaine L. Baker,
Director, Management Analysis and Services Office, Centers for Disease Control and Prevention.

[FR Doc. 2015-17704 Filed 7-17-15; 8:45 am]

BILLING CODE 4163-18-P